DEPARTMENT OF ENERGY

Federal Energy Regulatory Commission

[Docket No. AD12-10-000]

Reactive Power Resources; Supplemental Notice Requesting Comments

On April 17, 2012, Federal Energy Regulatory Commission staff (Staff) held a technical conference to examine whether the Commission should reconsider or modify the reactive power provisions of Order No. 661-A and examine what evidence could be developed under Order No. 661 to support a request to apply reactive power requirements more broadly than to individual wind generators during the interconnection study process.

At the conference, discussion items included: The technical and economic characteristics of different types of reactive power resources, including synchronous and asynchronous generation resources, transmission resources and energy storage resources; the design options for and cost of installing reactive power equipment at the time of interconnection as well as retrofitting a resource with reactive power equipment; other means by which reactive power is currently secured such as through self-supply; and how a technology that is capable of providing reactive power but may not be subject to the generation interconnection process (e.g., FACTs) would be analyzed. The staff and participants discussed information on methods used to determine the reactive power requirements for a transmission system and how system impact and system planning studies take into account changes in technologies connected to the system.

Persons wishing to comment on these issues should submit written comments to the Commission no later than May 21, 2012.

Dated: April 20, 2012.
Nathaniel J. Davis, Sr.,
Deputy Secretary.

[FR Doc. 2012-10062 Filed 4-25-12; 8:45 am]

BILLING CODE 6717-01-P